NUCLEAR REGULATORY COMMISSION

[NRC-2011-0183]

Request for Comments on the Draft Policy Statement on Volume Reduction and Low-Level Radioactive Waste Management

AGENCY: Nuclear Regulatory Commission.

ACTION: Request for public comment.

SUMMARY: The U.S. Nuclear Regulatory Commission (NRC) is revising its 1981 Policy Statement on Low-Level Waste (LLW) Volume Reduction. This statement encouraged licensees to take steps to reduce the amount of waste generated and to reduce its volume once generated. The purpose of the revised statement is to recognize that progress in reducing waste volume has been achieved since the 1981 Policy Statement was published and to acknowledge that factors other than volume reduction may be used by licensees to determine how best to manage their LLW. This draft Policy Statement is being issued for public comment.

DATES: Comments on the draft Policy Statement should be submitted by September 14, 2011. Comments received after this date will be considered if it is practical to do so, but the NRC is only able to ensure consideration of comments received on or before this date.

ADDRESSES: Please include Docket ID NRC-2011-0183 in the subject line of your comments. For instructions on submitting comments and accessing documents related to this action, see Section I, “Submitting Comments and Accessing Information” in the SUPPLEMENTARY INFORMATION section of this document. You may submit comments by any one of the following methods.

• Federal Rulemaking Web Site: Go to http://www.regulations.gov and search for documents filed under Docket ID NRC-2011-0183. Address questions about NRC dockets to Carol Gallagher, telephone: 301-492-3668; e-mail: Carol.Gallagher@nrc.gov.

• Mail comments to: Cindy Bladey, Chief, Rules, Announcements, and Directives Branch (RADB), Office of Administration, Mail Stop: TWB-05-B01M, U.S. Nuclear Regulatory Commission, Washington, DC 20555-0001.

FOR FURTHER INFORMATION CONTACT: Donald Lowman, Office of Federal and State Materials and Environmental Management Programs, U.S. Nuclear Regulatory Commission, Washington, DC 20555-0001; telephone: 301-415-5452; e-mail: donald.lowman@nrc.gov.

SUPPLEMENTARY INFORMATION:

I. Submitting Comments and Accessing Information

Comments submitted in writing or in electronic form will be posted on the Federal rulemaking Web site http://www.regulations.gov. Because your comments will not be edited to remove any identifying or contact information, the NRC cautions you against including any information in your submission that you do not want to be publicly disclosed. The NRC requests that any party soliciting or aggregating comments received from other persons for submission to the NRC inform those persons that the NRC will not edit their comments to remove any identifying or contact information, and therefore, they should not include any information in their comments that they do not want publicly disclosed.

You can access publicly available documents related to this document using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by e-mail to pdr.resource@nrc.gov.

• Federal Rulemaking Web Site: Public comments and supporting materials related to this notice can be found at http://www.regulations.gov by searching on Docket ID NRC-2011-0183.

II. Background

In 1981, the NRC published a Policy Statement regarding the volume reduction of LLW. The Policy Statement addressed:

• The need for a volume reduction policy;

• Suggested volume reduction techniques;

• That NRC would take expeditious action on requests for licensing of volume reduction systems; and

• The need for waste generators to minimize the quantity of waste produced.

The NRC issued the Policy Statement in response to a General Accounting Office (now U.S. Government Accountability Office (GAO)) report that recommended that NRC take this step to help preserve disposal facility space (GAO, 1980). The Policy Statement was issued when disposal space was scarce since two of the three operating low level radioactive waste (LLRW) disposal sites had been threatening to close, and one had recently reduced the annual amount authorized for disposal by half. Further, volume reduction techniques were not yet in widespread use and NRC`s Policy Statement was meant to encourage the use of these techniques.

On April 7, 2010, staff published SECY-10-0043, “Blending of Low-Level Radioactive Waste” and addressed the Policy Statement in response to stakeholder comments that large-scale blending may not be consistent with the Policy Statement because it would enable licensees to avoid the use of an available volume reduction technology. In the blending paper, staff stated in Option 2:

The staff believes that the Policy Statement could be updated to recognize the progress that has been achieved, and to acknowledge that other factors may be used by licensees in determining how best to manage their LLRW. Specifically, the Policy Statement could be revised to acknowledge that volume reduction continues to be important, but that risk-informed, performance-based approaches to managing waste are also appropriate in managing LLRW safely and that volume reduction should be evaluated in this light.

In the Staff Requirements Memorandum for SECY-10-0043, the Commission approved Option 2, which included the staff's proposed changes noted above. Consequently, a revised Policy Statement on Volume Reduction and Low-Level Radioactive Waste Management is being published for public comment.

III. Draft Policy Statement of the U.S. Nuclear Regulatory Commission on Volume Reduction and Low-Level Radioactive Waste Management

Summary

In 1981, the Commission published a Policy Statement (46 FR 51100; October 16, 1981) regarding the volume reduction of LLW. On April 7, 2010, the NRC staff published SECY-10-0043 “Blending of Low-Level Radioactive Waste” in which it recommended updating the Policy Statement to acknowledge that volume reduction continues to be important, but that risk-informed, performance-based approaches to managing waste are also needed to safely manage LLRW. The Commission approved the staff's recommendation thus the Policy Statement is being revised.

Policy Statement

The Commission recognizes the substantial progress made by licensees in reducing volumes of LLRW for disposal since the publication of the 1981 Volume Reduction Policy Statement. Nuclear industry groups have also played a central part in this effort by encouraging volume reduction practices among their members. Widespread use of these volume reduction practices has resulted in a significant reduction in the amount of LLW produced by licensees. The Commission recognizes that the high cost of disposal has been a factor, along with lack of disposal access, in the increased use of volume reduction techniques.

The Commission continues to believe that volume reduction is an important component in the management of LLW; a continued focus on volume reduction will extend the operational lifetime of the existing commercial low-level disposal sites and reduce the number of waste shipments.

Administrative controls and operational enhancements are the foundation of a successful radioactive waste management program. Therefore, the Commission encourages licensees to continue to adopt procedures that will reduce the volume of waste being transferred to disposal facilities. Additionally, as currently required by Title 10 of the Code of Federal Regulations (10 CFR) 20.1406, applicants for licenses shall describe in the application how facility design and procedures for operation will minimize, to the extent practicable, the generation of radioactive waste.

The Commission also recognizes that volume reduction is only one aspect of an effective radioactive waste management program. While the Commission continues to favor the disposal of LLRW over storage, it recognizes that licensees may manage waste in a variety of ways, consistent with NRC regulations and guidance. In addition to ensuring public health and safety, licensees should consider operational efficiency, reductions in occupational exposures, security, and cost in determining how best to manage LLRW. As part of their radioactive waste management strategies, licensees should consider all means available to manage waste in a manner that is secure and protects public health and safety, such as:

• Waste minimization.

• Short-term storage and decay.

• Long-term storage.

• Use of the alternate disposal provision contained in 10 CFR 20.2002.

• Use of waste processing technologies.

• Use of licensed disposal facilities.

The Commission understands that limited disposal access means that many licensees will be forced to store at least some of their LLW. Agreement State and NRC licensees must continue to ensure waste is safely and securely managed. However, disposal is considered the safest and most secure long-term management approach.

Paperwork Reduction Act Statement

This Policy Statement does not contain new or amended information collection requirements that are subject to the Paperwork Reduction Act of 1995 (44 U.S.C. 3501 et seq.). These information collections were approved by the Office of Management and Budget, approval numbers 3150-0014 and 3150-0151.

Public Protection Notification

The NRC may not conduct or sponsor, and a person is not required to respond to a request for information or an information collection requirement unless the requesting document displays a currently valid OMB control number.

IV. Public Comments

Based on the comments received in both written and electronic form, the Commission will then be in a better position to proceed with the issuance of a final Policy Statement. The final Policy Statement, when issued by the Commission, will be published in the Federal Register.

Dated at Rockville, Maryland, this 5th day of August, 2011.
For the Nuclear Regulatory Commission.
Cynthia A. Carpenter,
Acting Director, Office of Federal and State Materials and Environmental Management Programs.

[FR Doc. 2011-20666 Filed 8-12-11; 8:45 am]

BILLING CODE 7590-01-P